DEPARTMENT OF THE TREASURY

Office of Foreign Assets Control

Additional Designations of Terrorism-Related Blocked Persons

AGENCIES: Office of Foreign Assets Control, Treasury.

ACTION: Notice.

SUMMARY: The Treasury Department's Office of Foreign Assets Control is publishing the name of one additional person whose property and interests in property has been blocked pursuant to Executive Order 13224 of September 23, 2001, pertaining to persons who commit, threaten to commit, or support terrorism.

DATES: The designation by the Secretary of the Treasury of the one additional person identified in this notice whose property and interests in property have been blocked pursuant to Executive Order 13224 is effective as of September 6, 2002.

FOR FURTHER INFORMATION CONTACT: Office of Foreign Assets Control, Department of the Treasury, Washington, DC 20220, tel.: (202) 622-2520.

SUPPLEMENTARY INFORMATION:

Electronic and Facsimile Availability

This document is available as an electronic file on The Federal Bulletin Board the day of publication in the Federal Register. By modem, dial (202) 512-1387 and type “/GO FAC,” or call (202) 512-1530 for disk or paper copies. This file is available for downloading without charge in ASCII and Adobe Acrobat® readable (*.PDF) formats. For Internet access, the address for use with the World Wide Web (Home Page), Telnet, or FTP protocol is: fedbbs.access.gpo.gov. This document and additional information concerning the programs of the Office of Foreign Assets Control are available for downloading from the Office's Internet Home Page: http://www.treas.gov/ofac, or in fax form through the Office's 24-hour fax-on-demand service: call (202) 622-0077 using a fax machine, fax modem, or (within the United States) a touch-tone telephone.

Background

On September 23, 2001, President Bush issued Executive Order 13224 (the “Order”) imposing economic sanctions on persons who commit, threaten to commit, or support certain acts of terrorism. In an annex to the Order, President Bush identified 12 individuals and 15 entities whose assets are blocked pursuant to the Order (66 FR 49079, September 25, 2001). Additional persons have been blocked pursuant to authorities set forth in the Order since that date and notice of such blockings have been published in the Federal Register.

Further Designation. On September 6, 2002, the Secretary of the Treasury, in consultation with the Secretary of State and the Attorney General, acting pursuant to authorities set forth in the Order designated one additional person whose property and interests in property are blocked. The name of this additional person is set forth below. Persons, and their known aliases, will be added to appendix A to 31 CFR chapter V, through a separate Federal Register document, as “specially designated global terrorists” identified by the initials “[SDGT]”. Appendix A lists the names of persons with respect to whom transactions are subject to the various economic sanctions programs administered by the Office of Foreign Assets Control.

The designation by the Secretary of the Treasury pursuant to Executive Order 13224 of this additional person listed below is effective on September 6, 2002. All property and interests in property of any designated person, including but not limited to all accounts, that are or come within the United States or that are or come within the possession or control of United States persons, including their overseas branches, are blocked and may not be transferred, paid, exported, withdrawn, or otherwise dealt in, and all transactions or dealings by U.S. persons or within the United States in property or interests in property of any designated person are prohibited, unless licensed by the Office of Foreign Assets Control or exempted by statute.

In Section 10 of the Order, the President determined that because of the ability to transfer funds or assets instantaneously, prior notice to persons listed in the Annex to, or determined to be subject to, the Order who might have a constitutional presence in the United States, would render ineffectual the blocking and other measures authorized in the Order. The President further determined that no prior notification of a determination need be provided to any person who might have a constitutional presence in the United States. In furtherance of the objectives of the Order, the Secretary of the Treasury has determined that no prior notice should be afforded to the subjects of the determinations reflected in this notice because to do so would give the subjects the opportunity to evade the measures described in the Order and, consequently, render those measures ineffectual toward addressing the national emergency declared in the Order.

The additional designation follows:

JULAIDAN, Wa'el Hamza (a.k.a. “Abu Al-Hasan al Madani;” a.k.a. JALADIN, Wa'el Hamza; a.k.a. JALADIN, Wa'il Hamza; a.k.a. JALAIDAN, Wa'el Hamza; a.k.a. JALAIDAN, Wa'il Hamza; a.k.a. JULAIDAN, Wa'il Hamza; a.k.a. JULAYDAN, Wa'el Hamza; a.k.a. JULAYDAN, Wa'il Hamza); DOB 22 Jan 1958; POB Al-Madinah, Saudi Arabia; Passport No. A-992535 (Saudi Arabia) (individual) [SDGT]

Dated: September 13, 2002.
R. Richard Newcomb,
Director, Office of Foreign Assets Control.

Approved: October 10, 2002.
Kenneth Lawson,
Assistant Secretary (Enforcement), Department of the Treasury.

[FR Doc. 02-27813 Filed 10-31-02; 8:45 am]

BILLING CODE 4810-25-P